FEDERAL COMMUNICATIONS COMMISSION

Network Reliability and Interoperability Council

AGENCY: Federal Communications Commission.

ACTION: Notice of meeting.

SUMMARY: In accordance with the Federal Advisory Committee Act, this notice advises interested persons of the fourth meeting of the Network Reliability and Interoperability Council (Council) under its charter renewed as of January 6, 2000.

DATES: Tuesday, June 26, 2001 at 10:00 a.m. to 12:00 p.m.

ADDRESSES: Federal Communications Commission, 445 12th St. S.W. Room TW-C305, Washington, D.C.

FOR FURTHER INFORMATION CONTACT: Kent R. Nilsson at 202-418-0845 or TTY 202-418-2989.

SUPPLEMENTARY INFORMATION: The Council was established by the Federal Communications Commission to bring together leaders of the telecommunications industry and telecommunications experts from academic, consumer and other organizations to identify and recommend measures that would enhance network reliability.

The Council will receive reports on, and discuss, the progress of its focus groups: Network Reliability, Wireline Spectrum Management and Integrity, and Interoperability. The Council may also discuss such other matters as come before it at the meeting. Members of the general public may attend the meeting. The Federal Communications Commission will attempt to accommodate as many people as possible. Admittance, however, will be limited to the seating available. The public may submit written comments before the meeting to Kent Nilsson, the Commission's Designated Federal Officer for the Network Reliability and Interoperability Council, by email (KNILSSON@FCC.GOV) or U.S. mail (7-B452, 445 12th St. S.W., Washington, D.C. 20554). Real Audio and streaming video access to the meeting will be available at http://www.fcc.gov/.

Federal Communications Commission.
Magalie Roman Salas,
Secretary.

[FR Doc. 01-14663 Filed 6-11-01; 8:45 am]

BILLING CODE 6712-01-P